DEPARTMENT OF HEALTH AND HUMAN SERVICES

Centers for Disease Control and Prevention

[30DAY-15-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Pilot Study of the U.S. Action Plan for Laboratory Containment of Wild Polioviruses—New—National Vaccine Program Office (NVPO), Centers for Disease Control and Prevention (CDC). Global polio eradication is anticipated within the next few years. The only sources of wild polio virus will be in biomedical laboratories. Prevention of inadvertent transmission of polio viruses from the laboratory to the community is crucial.

The first step toward prevention is a national survey of all biomedical laboratories. The survey will alert laboratories to the impending eradication of polio, encourage the disposition of all unneeded wild polio virus infectious and potentially infectious materials, and establish a national inventory of laboratories retaining such materials. Laboratories on the inventory will be kept informed of polio eradication progress and notified, when necessary, to implement bio-safety requirements appropriate for the risk of working with such materials.

An estimated 15,000 biomedical laboratories, in six categories of institutions: Academic, federal government, hospital, industry, private, and state and local government facilities, will be included in the final survey. We propose conducting pilot studies in 525 biomedical laboratories representing the above six categories. Specific survey strategies for each category will be refined through these pilot surveys. Three types of biomedical laboratories within each institutional category will be targeted by the pilot survey: Those most likely to possess wild polio virus materials; those least likely to possess wild polio virus materials; and those that may possess wild polio virus materials.

The survey instruments will ask laboratories to indicate whether or not they possess wild polio virus infectious and/or potentially infectious materials. If such materials are present, respondents are asked to indicate the types of materials and estimated numbers retained. Survey instruments will be available on the NVPO web page, and institutions will be encouraged to submit completed survey forms electronically. The total burden for this data collection is 350 hours.

Respondents | Number of respondents | Responses/respondent | Average burden/response (in hours)
Labs most likely to possess | 175 | 1 | 30/60
Labs least likely to possess | 175 | 1 | 30/60
Labs that may possess | 175 | 1 | 60/60

Dated: January 18, 2002.
Nancy E. Cheal,
Acting Associate Director for Policy, Planning and Evaluation, Centers for Disease Control and Prevention.

[FR Doc. 02-1960 Filed 1-25-02; 8:45 am]

BILLING CODE 4163-18-P